DEPARTMENT OF THE TREASURY

Internal Revenue Service

Proposed Collection; Comment Request for Form 1138; Correction

AGENCY: Internal Revenue Services (IRS), Treasury.

ACTION: Correction to notice and request for comments.

SUMMARY: This document contains a correction to a notice and request for comments, which was published in the Federal Register on Monday September 15, 2003 (68 FR 54052). This notice relates to a comment request on proposed and /or continuing information collections for Form 1138.

FOR FURTHER INFORMATION CONTATCT: Allan Hopkins, (202) 622-6665 (not a toll free number).

SUPPLEMENTARY INFORMATION:

Background

The notice and request for comments that is the subject of this correction is required by the Paperwork Reduction Act of 1995, Public Law 104-13 (44 U.S.C. 3506 (c)(2)(A)).

Need for Correction

As published, the comment request for Form 1138 contains an error which may prove to be misleading and is in need of clarification.

Correction of Publication

Accordingly, the publication of the comment request for Form 1138, which was the subject of FR Doc. 23471, is corrected as follows:

On page 54052, column 2, under the caption SUPPLEMENTARY INFORMATION:, line 3 from the top of the column, the language “OMB Number: 1545-1035” is corrected to read “OMB Number: 1545-0135”.

Cynthia E. Grigsby,
Acting Chief, Publications and Regulations Branch, Legal Processing Division, Associate Chief Counsel, (Procedure and Administration).

[FR Doc. 03-26805 Filed 10-22-03; 8:45 am]

BILLING CODE 4830-01-P